INTERNATIONAL TRADE COMMISSION

[Investigation Nos. 701-TA-448 and 731-TA-1117 (Preliminary)]

Certain Off-the-Road Tires From China

AGENCY: United States International Trade Commission.

ACTION: Revised schedule for the subject investigations.

SUMMARY: On June 18, 2007, the Commission established a schedule for the conduct of the subject investigations (72 FR 30831, June 4, 2007). Subsequently, the Department of Commerce extended the date for its initiation of the investigations from July 9 to July 30, 2007. The Commission, therefore, is revising its schedule to conform with Commerce's new schedule.

The Commission's new schedule for the investigations is as follows: the deadline for filing written briefs is July 17, 2007, and the administrative deadline for transmitting determinations and views to Commerce is August 27, 2007.

For further information concerning the conduct of these investigations and rules of general application, consult the Commission's Rules of Practice and Procedure, part 201, subparts A through E (19 CFR part 201), and part 207, subparts A and B (19 CFR part 207).

EFFECTIVE DATE: July 18, 2007.

FOR FURTHER INFORMATION CONTACT: Joanna Lo (202-205-1888/joanna.lo@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at: http://edis.usitc.gov.

Authority: These investigations are being conducted under authority of title VII of the Tariff Act of 1930; this notice is published pursuant to § 207.12 of the Commission's rules.

By order of the Commission.
Issued: July 12, 2007.
Marilyn R. Abbott,
Secretary to the Commission.

[FR Doc. E7-13829 Filed 7-17-07; 8:45 am]

BILLING CODE 7020-02-P